DEPARTMENT OF COMMERCE

International Trade Administration

[A-570-896]

Magnesium Metal From the People's Republic of China: Rescission of Antidumping Duty Administrative Review

AGENCY: Import Administration, International Trade Administration, Department of Commerce.

DATES: November 29, 2010.

SUMMARY: On May 28, 2010, the U.S. Department of Commerce (“the Department”) published a notice of initiation of an administrative review of the antidumping duty order on magnesium metal from the People's Republic of China (“PRC”).¹ The review covers one manufacturer/exporter of subject merchandise from the PRC, Tianjin Magnesium International Co., Ltd. (“TMI”). The period of review (“POR”) is April 1, 2009, through March 31, 2010. Following the receipt of a certification of no shipments from TMI, we notified all interested parties of the Department's intent to rescind this review and provided an opportunity to comment on the rescission.² We received no comments. Therefore, we are rescinding this administrative review.

¹ See Initiation of Antidumping and Countervailing Duty Administrative Reviews, 75 FR 29976 (May 28, 2010) (“Initiation”).

² See Memorandum to the File, “Magnesium Metal from the People's Republic of China: Intent to Rescind the 2009-2010 Antidumping Duty Administrative Review of Magnesium Metal from the People's Republic of China—A-570-896,” dated November 1, 2010 (“Intent to Rescind Memorandum”).

FOR FURTHER INFORMATION CONTACT: Laurel LaCivita, AD/CVD Operations, Office 8, Import Administration, International Trade Administration, U.S. Department of Commerce, 14th Street and Constitution Avenue, NW., Washington, DC 20230; telephone: (202) 482-4243.

SUPPLEMENTARY INFORMATION:

Background

On April 1, 2010, the Department published a notice of opportunity to request an administrative review of the antidumping duty order on magnesium metal from the PRC for the period April 1, 2009, through March 31, 2010.³ On April 30, 2010, U.S. Magnesium LLC (“U.S. Magnesium”), a domestic producer and Petitioner in the underlying investigation of this case, made a timely request that the Department conduct an administrative review of TMI.⁴ On May 28, 2010, in accordance with section 751(a) of the Tariff Act of 1930, as amended (“the Act”), the Department published in the Federal Register a notice of initiation of this antidumping duty administrative review.⁵ On June 28, 2010, TMI submitted a letter to the Department certifying that it did not export magnesium metal for consumption in the United States during the POR.

³ See Antidumping or Countervailing Duty Order, Finding, or Suspended Investigation; Opportunity To Request Administrative Review, 75 FR 16426 (April 1, 2010).

⁴ See letter from TMI, “Magnesium Metal from China: Request for Administrative Review,” dated April 30, 2010.

⁵ See Initiation, 75 FR at 29983.

On June 30, 2010, the Department placed on the record information obtained in response to the Department's query to U.S. Customs and Border Protection (“CBP”) concerning imports into the United States of subject merchandise during the POR. This data indicates that TMI made an entry of merchandise during the POR under the tariff item that includes magnesium metal.⁶

⁶ See Memorandum to the File, “Magnesium Metal from the People's Republic of China; Transmittal of U.S. Customs and Border Protection Information to the File,” dated June 30, 2010, at Attachment I; see also letter from TMI, “Magnesium Metal from the People's Republic of China; A-570-896; Supplemental Information of No Sales by Tianjin Magnesium International Co., Ltd,” dated July 14, 2010 (“TMI's Supplemental No Shipments Letter”), at 1.

On July 14, 2010, TMI explained that it correctly classified the merchandise in question using the same Harmonized Tariff System (“HTS”) category as magnesium metal.⁷ However, TMI noted that the merchandise in question is covered by the scope of the antidumping duty order on pure magnesium from the PRC.⁸ Moreover, TMI maintained that it reported, and the Department reviewed and verified, the merchandise at issue during the 2008-2009 review of pure magnesium from the PRC.⁹

⁷ Id. at 3.

⁸ Id.

⁹ Id. at 4.

On October 19, 2010, the Department placed on the record of this review, copies of the entry documents received from CBP.¹⁰ These documents indicate that the merchandise at issue does not consist of subject merchandise.¹¹ Rather, this merchandise is included in the scope of the order or pure magnesium, which states in relevant part:¹²

¹⁰ See Memorandum to the File, “Magnesium Metal from the People's Republic of China: Release of U.S. Entry Documents from the Department's August 17, 2010 Request—A-570-896,” (“Release of Entry Documents”) dated October 19, 2010.

¹¹ See Release of Entry Documents at Attachment I.

¹² See Notice of Antidumping Duty Orders: Pure Magnesium From the People's Republic of China, the Russian Federation and Ukraine; Notice of Amended Final Determination of Sales at Less Than Fair Value: Antidumping Duty Investigation of Pure Magnesium From the Russian Federation, 60 FR 25691 (May 12, 1995).

(3) Products that contain 50% or greater, but less than 99.8% primary magnesium, by weight, and that do not conform to ASTM specifications for alloy magnesium (generally referred to as “off-specification pure” magnesium).

“Off-specification pure” magnesium is pure primary magnesium containing magnesium scrap, secondary magnesium, oxidized magnesium or impurities (whether or not intentionally added) that cause the primary magnesium content to fall below 99.8% by weight. It generally does not contain, individually or in combination, 1.5% or more, by weight, of the following alloying elements: aluminum, manganese, zinc, silicon, thorium, zirconium and rare earths.

On November 1, 2010, the Department notified interested parties of its intent to rescind this administrative review and gave parties until November 8, 2010, to provide comments. We did not receive any comments.

Scope of the Order

The product covered by this antidumping duty order is magnesium metal, which includes primary and secondary alloy magnesium metal, regardless of chemistry, raw material source, form, shape, or size. Magnesium is a metal or alloy containing by weight primarily the element magnesium. Primary magnesium is produced by decomposing raw materials into magnesium metal. Secondary magnesium is produced by recycling magnesium-based scrap into magnesium metal. The magnesium covered by this order includes blends of primary and secondary magnesium.

The subject merchandise includes the following alloy magnesium metal products made from primary and/or secondary magnesium including, without limitation, magnesium cast into ingots, slabs, rounds, billets, and other shapes, and magnesium ground, chipped, crushed, or machined into raspings, granules, turnings, chips, powder, briquettes, and other shapes: Products that contain 50 percent or greater, but less than 99.8 percent, magnesium, by weight, and that have been entered into the United States as conforming to an “ASTM Specification for Magnesium Alloy” ¹³ and thus are outside the scope of the existing antidumping orders on magnesium from the PRC (generally referred to as “alloy” magnesium).

¹³ The meaning of this term is the same as that used by the American Society for Testing and Materials in its Annual Book of ASTM Standards: Volume 01.02 Aluminum and Magnesium Alloys.

The scope of this order excludes: (1) All forms of pure magnesium, including chemical combinations of magnesium and other material(s) in which the pure magnesium content is 50 percent or greater, but less 99.8 percent, by weight, that do not conform to an “ASTM Specification for Magnesium Alloy” ¹⁴; (2) magnesium that is in liquid or molten form; and (3) mixtures containing 90 percent or less magnesium in granular or powder form by weight and one or more of certain non-magnesium granular materials to make magnesium-based reagent mixtures, including lime, calcium metal, calcium silicon, calcium carbide, calcium carbonate, carbon, slag coagulants, fluorspar, nephaline syenite, feldspar, alumina (Al203), calcium aluminate, soda ash, hydrocarbons, graphite, coke, silicon, rare earth metals/mischmetal, cryolite, silica/fly ash, magnesium oxide, periclase, ferroalloys, dolomite lime, and colemanite.¹⁵

¹⁴ This material is already covered by existing antidumping orders. See Notice of Antidumping Duty Orders: Pure Magnesium from the People's Republic of China, the Russian Federation and Ukraine; Notice of Amended Final Determination of Sales at Less Than Fair Value: Antidumping Duty Investigation of Pure Magnesium from the Russian Federation, 60 FR 25691 (May 12, 1995); and Antidumping Duty Order: Pure Magnesium in Granular Form from the People's Republic of China, 66 FR 57936 (Nov. 19, 2001).

¹⁵ This third exclusion for magnesium-based reagent mixtures is based on the exclusion for reagent mixtures in the 2000-2001 investigations of magnesium from China, Israel, and Russia. See Final Determination of Sales at Less Than Fair Value: Pure Magnesium in Granular Form From the People's Republic of China, 66 FR 49345 (September 27, 2001); Final Determination of Sales at Less Than Fair Value: Pure Magnesium From Israel, 66 FR 49349 (September 27, 2001); Final Determination of Sales at Not Less Than Fair Value: Pure Magnesium From the Russian Federation, 66 FR 49347 (September 27, 2001). These mixtures are not magnesium alloys, because they are not chemically combined in liquid form and cast into the same ingot.

The merchandise subject to this order is classifiable under items 8104.19.00, and 8104.30.00 of the Harmonized Tariff Schedule of the United States (“HTSUS”). Although the HTSUS items are provided for convenience and customs purposes, the written description of the merchandise is dispositive.

Rescission of the Administrative Review

Based upon the certifications and the evidence on the record, the Department finds TMI's claim of no shipments of subject merchandise to the United States during the POR to be substantiated. Pursuant to 19 CFR 351.213(d)(3), the Department may rescind an administrative review, in whole or with respect to a particular exporter or producer, if the Secretary concludes that, during the period covered by the review, there were no entries, exports, or sales of the subject merchandise. Therefore, the Department is rescinding this review in accordance with 19 CFR 351.213(d)(3). The Department intends to instruct CBP fifteen days after the publication of this notice to liquidate such entries. Antidumping duties shall be assessed at rates equal to the cash deposit of estimated antidumping duties required at the time of entry, or withdrawal from warehouse, for consumption, in accordance with 19 CFR 351.212(c)(2).

We are issuing and publishing this notice in accordance with sections 751(a)(1) and 777(i) of the Act and 19 CFR 351.213(d)(4).

Dated: November 19, 2010.
Susan H. Kuhbach,
Acting Deputy Assistant Secretary for Antidumping and Countervailing Duty Operations.

[FR Doc. 2010-29965 Filed 11-26-10; 8:45 am]

BILLING CODE 3510-DS-P